CONSUMER PRODUCT SAFETY COMMISSION

16 CFR Parts 1500 and 1507

[Docket No. CPSC-2006-0034]

Amendments to Fireworks Regulations; Notice of Opportunity for Oral Presentation of Comments

AGENCY: Consumer Product Safety Commission.

ACTION: Notice of proposed rulemaking; opportunity for oral presentation of comments.

SUMMARY: The Consumer Product Safety Commission (Commission or CPSC) will be holding a meeting to provide interested parties with an opportunity to present oral comments on the notice of proposed rulemaking (NPR) the Commission issued regarding amendments to the fireworks regulations. Any oral comments will be part of the rulemaking record.

DATES: The meeting will begin at 10 a.m. Eastern Standard Time (EST) on March 7, 2018. The Office of the Secretary must receive requests to make oral presentations, along with the written text of the oral presentations, no later than 5 p.m. EST on February 28, 2018.

ADDRESSES: The meeting will be in the Hearing Room, on the 4th Floor of the Bethesda Towers Building, 4330 East-West Highway, Bethesda, MD 20814. Submit requests to make oral presentations and the written text of oral presentations to the Office of the Secretary, with the caption, “Fireworks NPR; Oral Presentation,” by email to cpsc-os@cpsc.gov, or by mail to the Office of the Secretary, Consumer Product Safety Commission, 4330 East-West Highway, Bethesda, MD 20814.

FOR FURTHER INFORMATION CONTACT: For information about the subject matter of this meeting, contact Rodney Valliere, Project Manager, Directorate for Laboratory Sciences, Consumer Product Safety Commission, 5 Research Place, Rockville, MD 20850; telephone: (301) 987-2526. For information about the procedure to make an oral presentation, contact Rockelle Hammond, Office of the Secretary, Consumer Product Safety Commission, 4330 East-West Highway, Bethesda, MD 20814; telephone: (301) 504-7923.

SUPPLEMENTARY INFORMATION:

I. Background

On February 2, 2017, the Commission published an NPR in the Federal Register, proposing to amend its fireworks regulations under the Federal Hazardous Substances Act (FHSA; 15 U.S.C. 1261-1278), and seeking written comments. 82 FR 9012. The NPR proposed amendments that would create new requirements for fireworks devices, as well as modify or clarify existing requirements. On April 14, 2017, the Commission published a notice extending the comment period for the NPR to July 17, 2017. 82 FR 17947. The NPR is available at: https://www.gpo.gov/fdsys/pkg/FR-2017-02-02/pdf/2017-02014.pdf and Commission staff's briefing package for the NPR is available at: https://www.cpsc.gov/s3fs-public/ProposedRuleAmendmentstoFireworksRegulations.pdf.

In the Request for Comments section of the NPR (82 FR 9029), the Commission sought information on specific topics, in addition to requesting comments on all aspects of the proposed rule. Comments on the topics listed in the NPR would be helpful at the public hearing. In particular, the Commission would find information and data on the following topics useful:

• The public safety need for the proposed chemical composition and pyrotechnic weight limits for ground devices;

• the public safety need for prohibiting hexachlorobenzene and lead tetroxide and other lead compounds in fireworks devices;

• the public safety need for the proposed test method to evaluate side ignition and the appropriateness of the proposed ignition-resistance period;

• the public safety need for the proposed ban of fireworks devices that project fragments when functioning; and

• the appropriate trace contamination allowance levels for prohibited chemicals.

II. The Public Meeting

Under the FHSA and the Administrative Procedure Act (5 U.S.C. 551-562), the Commission must provide interested parties with an opportunity to submit “written data, views, or arguments” regarding a proposed rule. 5 U.S.C. 553(c). Neither statute requires the Commission to provide an opportunity for oral comments about a rulemaking, but the Commission is providing this forum to give interested parties an additional opportunity to comment on the NPR.

To request the opportunity to make an oral presentation, see the information under the DATES and ADDRESSES sections of this notice. Participants should limit their presentations to approximately 10 minutes, excluding time for questioning by the Commissioners or CPSC staff. To avoid duplicate presentations, groups should designate a spokesperson, and the Commission reserves the right to limit presentation times or impose further restrictions, as necessary.

Alberta E. Mills,
Acting Secretary, Consumer Product Safety Commission.

[FR Doc. 2018-02258 Filed 2-2-18; 8:45 am]

BILLING CODE 6355-01-P